DEPARTMENT OF DEFENSE

Department of the Army

Reserve Officers' Training Corps (ROTC) Program Subcommittee

AGENCY: Department of the Army, DoD.

ACTION: Notice of open meeting.

SUMMARY: In accordance with Section 10(a)(2) of the Federal Advisory Committee Act (5 U.S.C., App. 2), announcement is made of the following Committee meeting:

Name of Committee: Reserve Officers' Training Corps (ROTC) Program Subcommittee.

Dates of Meeting: October 16, 2007.

Location: Marriott Crystal City at Reagan National Airport, 1999 Jefferson Davis Highway, Arlington, VA 22202.

Time: 0730-1700 hours, October 16, 2007.

Proposed Agenda: Review and discuss the Army's Cultural and Language Initiatives for the Army Officer Education System, focusing on cultural and language commissioning requirements for Army ROTC. Other topics will include studies on future demographic populations and the challenges facing Reserve Officers' Training Corps Cadets due to the lack of full tuition and room and board scholarships.

FOR FURTHER INFORMATION CONTACT: Major Tracy Porter, U.S. Army Cadet Command (ATCC-TR), Fort Monroe, VA 23651 at (757) 788-4646.

SUPPLEMENTARY INFORMATION: This meeting is open to the public. Interested persons may attend, appear before, or file statements with the committee. If a written statement is not received at least 10 calendar days prior to the meeting, which is the subject of this notice, then it may not be provided to or considered by the Reserve Officers' Training Corps Subcommittee until its next meeting.

Brenda S. Bowen,
Army Federal Register Liaison Officer.

[FR Doc. 07-4555 Filed 09-13-07; 8:45 am]

BILLING CODE 3710-08-M